DEPARTMENT OF AGRICULTURE

Rural Business-Cooperative Service

Notice of Request for Extension of Currently Approved Information Collection

AGENCY: Rural Business-Cooperative Service, USDA.

ACTION: Proposed collection; comments requested.

SUMMARY: In accordance with the Paperwork Reduction Act of 1995, this notice announces the Rural Development's intention to request an extension for a currently approved information collection in support of the program for 7 CFR part 4284, subpart K, Agriculture Innovation Demonstration Centers.

DATES: Comments on this notice must be received by March 26, 2012 to be considered.

FOR FURTHER INFORMATION CONTACT: Mr. Chadwick O. Parker, Deputy Administrator, Cooperative Programs, Rural Development, USDA, STOP 3252, Room 4016-South, 1400 Independence Avenue SW., Washington, DC 20250-3252. Telephone: (202) 720-7558, Email: chad.parker@wdc.usda.gov.

SUPPLEMENTARY INFORMATION: Title: Agriculture Innovation Centers.

OMB Number: 0570-0045.

Expiration Date of Approval: July 31, 2012.

Type of Request: Extension of currently approved information collection.

Abstract: Agriculture Innovation Center applicants must provide required information to demonstrate eligibility for the program and compliance with applicable laws and regulations. Grantees are required to provide progress reports for the duration of the grant agreement to ensure continued compliance and to measure the success of the program.

Estimate of Burden: Public reporting burden for this collection is estimated to average 107.5 hours per response.

Estimated Number of Respondents: 2.

Estimated Number of Responses per Respondent: 12.

Estimated Number of Responses: 24.

Estimated Total Annual Burden on Respondents: 58.5 hours.

Copies of this information collection can be obtained from Jeanne Jacobs, Regulations and Paperwork Management Branch, (202) 692-0040.

Comments

Comments are invited on: (a) Whether the proposed collection of information is necessary for the proper performance of the functions of Rural Development, including whether the information will have practical utility; (b) the accuracy of Rural Development's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Jeanne Jacobs, Regulations and Paperwork Management Branch, Rural Development, U.S. Department of Agriculture, STOP 0742, 1400 Independence Avenue SW., Washington, DC 20250-0742. All responses to this notice will be summarized and included in the request for OMB approval. All comments will become a matter of public record.

Dated: January 13, 2012.
Judith A. Canales,
Administrator, Rural Business-Cooperative Service.

[FR Doc. 2012-1273 Filed 1-23-12; 8:45 am]

BILLING CODE 3410-XY-P